FEDERAL COMMUNICATIONS COMMISSION

47 CFR Part 0

[WT Docket No. 10-177; FCC 13-4]

Commercial Radio Operators; Correction

AGENCY: Federal Communication Commission.

ACTION: Final rule; correcting amendment.

SUMMARY: The Federal Communications Commission (FCC) is correcting a final rule that appeared in the Federal Register of April 18, 2013. The document amended the FCC rules concerning radio operator licenses for maritime and aviation in order to reduce administrative burden in the public's interest.

DATES: Effective May 29, 2013,

FOR FURTHER INFORMATION CONTACT: Stana Kimball, Mobility Division, Wireless Telecommunications Bureau, 202-418-1306, TTY 202-418-7233.

SUPPLEMENTARY INFORMATION: In FR Doc. 2013-02372 appearing on page 23151 in the Federal Register of Thursday, April 18, 2013 (78 FR 23150), the following corrections are made.

List of Subjects in 47 CFR Part 0

Organization and functions (Government agencies).

Federal Communications Commission.
Marlene H. Dortch,
Secretary.

Accordingly, 47 CFR part 0 is corrected by making the following correcting amendments:

PART 0—COMMISSION ORGANIZATION

1. The authority citation for part 0 continues to read as follows:

Authority: Secs. 5,48 Stat. 1068, as amended; 47 U.S.C. 155.

2. Section 0.131 is amended by revising paragraph (j) and adding paragraph (s) to read as follows:

§ 0.131 Functions of the Bureau.

* * * * *

(j) Administers the Commission's commercial radio operator program (part 13 of this chapter); the Commission's program for registration, construction, marking and lighting of antenna structures (part 17 of this chapter), and the Commission's privatized ship radio inspection program (part 80 of this chapter).

* * * * *

(s)(1) Extends the Communications Act Safety Radiotelephony Certificate for a period of up to 90 days beyond the specified expiration date.

(2) Grants emergency exemption requests, extensions or waivers of inspection to ships in accordance with applicable provisions of the Communications Act, the Safety Convention, the Great Lakes Agreement or the Commission's rules.

[FR Doc. 2013-12723 Filed 5-28-13; 8:45 am]

BILLING CODE 6712-01-P